DEPARTMENT OF ENERGY

[Docket No. PP-371]

Northern Pass Transmission Line Project Environmental Impact Statement: Announcement of Change in Public Meeting Location

AGENCY: Department of Energy.

ACTION: Announcement of change in public meeting location.

SUMMARY: On September 6, 2013, the U.S. Department of Energy (DOE) published in the Federal Register an amended Notice of Intent (NOI) to modify the scope of the Northern Pass Transmission Line Project Environmental Impact Statement (EIS) (DOE/EIS-0463) and to conduct additional public scoping meetings (78 FR 54876). In that amended NOI, DOE announced four public meetings, including one on September 26 in West Stewartstown, NH. In response to public requests that raised concerns about insufficient capacity at the Stewartstown venue, DOE has since changed the location of the September 26 public meeting to Colebrook Elementary School, 27 Dumont Street, Colebrook, NH. The public scoping meeting will be from 5-8 p.m. DOE previously announced this change in public meeting location on both the Northern Pass EIS Web site at http://www.northernpasseis.us on September 10, 2013, notified persons who have subscribed to the email list of this change via email on September 10, 2013, and the DOE NEPA Web site at http://energy.gov/nepa on September 11, 2013.

DATES: DOE will conduct four public scoping meetings prior to the close of the public scoping period on November 5, 2013. The public scoping meetings will be held in:

1. Concord, NH, Grappone Conference Center, 70 Constitution Avenue, Monday, September 23, 2013, 6-9 p.m.;

2. Plymouth, NH, Plymouth State University, Silver Center for the Arts, Hanaway Theater, 17 High Street, Tuesday, September 24, 2013, 5-8 p.m.;

3. Whitefield, NH, Mountain View Grand Resort & Spa, Presidential Room, 101 Mountain View Road, Wednesday, September 25, 2013, 5-8 p.m.; and

4. Colebrook, NH, Colebrook Elementary School, 27 Dumont Street, Thursday, September 26, 2013, 5-8 p.m.

Requests to speak at one or more public scoping meeting(s) should be received at the address for Brian Mills indicated below in the ADDRESSES section by September 18, 2013; requests received by that date will be given priority in the speaking order. However, requests to speak also may be made at the scoping meeting.

If assistance is needed to participate in any of the DOE scoping meetings (e.g., qualified interpreter, computer-aided real-time transcription), please submit a request for auxiliary aids and services to DOE by September 16, 2013 by contacting Brian Mills as described below in the ADDRESSES section.

ADDRESSES: Requests to speak at a public scoping meeting(s), and requests for individuals to be added to the document mailing list (to receive a paper or electronic copy of the Draft EIS) should be addressed to: Brian Mills, Office of Electricity Delivery and Energy Reliability (OE-20), U.S. Department of Energy, 1000 Independence Avenue SW., Washington, DC 20585; by email to Brian.Mills@hq.doe.gov; or by facsimile to 202-586-8008. Additional information on the Northern Pass Transmission Line Project EIS is available on the EIS Web site at http://www.northernpasseis.us.

For general information on the DOE NEPA process contact: Ms. Carol M. Borgstrom, Director, Office of NEPA Policy and Compliance (GC-54), U.S. Department of Energy, 1000 Independence Avenue SW., Washington, DC 20585; by email at askNEPA@hq.doe.gov; at 202-586-4600, or 800-472-2756; or by facsimile at 202-586-7031. Additional information on DOE's NEPA program is available on the DOE NEPA Web site at http://energy.gov/nepa.

Issued in Washington, DC, on September 12, 2013.
Brian Mills,
Senior Planning Advisor, Office of Electricity Delivery and Energy Reliability.

[FR Doc. 2013-22687 Filed 9-17-13; 8:45 am]

BILLING CODE 6450-01-P